DEPARTMENT OF JUSTICE

Antitrust Division

Notice Pursuant to the National Cooperative Research and Production Act of 1993—Open SystemC Initiative (“OSCI”)

Notice is hereby given that, on October 9, 2001, pursuant to section 6(a) of the National Cooperative Research and Production Act of 1993, 15 U.S.C. 4301 et seq. (“the Act”), Open SystemC Initiative (“OSCI”) has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to section 6(b) of the Act, the identities of the parties are ARM Ltd., Cambridge, UNITED KINGDOM; Cadence Design Systems, Inc., San Jose, CA; CoWare, Inc., Santa Clara, CA; Fujitsu Limited, Tokyo, JAPAN; Mentor Graphics Corporation, Wilsonville, OR; Motorola, Inc., Schaumburg, IL; NEC Electronics Inc., Santa Clara, CA; and Synopsys, Inc., Mountain View, CA.

The nature and objectives of the venture are research and development of a rich computer language and reference implementation, based on C++ class libraries, called “SystemC”, to form a freely available, open source, and interoperable platform for system-level design and intellectual property modeling.

Constance K. Robinson,
Director of Operations, Antitrust Division.

[FR Doc. 02-100 Filed 1-2-02; 8:45 am]

BILLING CODE 4410-11-M